DEPARTMENT OF LABOR

Office of the Secretary

Submission for OMB Review; Comment Request

September 13, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Mowze at (202) 693-4158 or e-mail Howze-Marlene@dol.gov.

Comments should be sent to Office of Information and Regulatory Affairs, Attn: OMB Desk Officer for BLS, Office of Management and Budget, Room 10235, Washington, DC 20503 ((202 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Reinstatement, with change, of a previously approved collection for which approval has expired.

Agency: Bureau of Labor Statistics (BLS).

Title: National Longitudinal Survey of Youth 1979.

OMB Number: 1220-0109.

Affected Public: Individuals or households.

Number of Respondents: 16,280.

Number of Annual Responses: 19,350.

Estimated Time Per Response and Total Burden Hours:

Form | Total respondents | Frequency | Total responses | Average minutes | Estimated total burden hours
NLSY79 Round 20 Main Survey | 8,200 | Biennially | 8,200 | 60 | 8,200
Main NLSY79 Validation Re-interview | 400 | Biennially | 400 | 6 | 40
Mother Supplement | 2,300 | Biennially | 3,260 | 21 | 1,141
Child Supplement | 3,260 | Biennially | 3,260 | 31 | 1,684
Child Self-Administered Questionnaire | 1,710 | Biennially | 1,710 | 12 | 342
Young Adult Survey | 2,520 | Biennially | 2,520 | 45 | 1,890
Totals |  |  | 19,350 |  | 13,297

Total Annualized Capital/Startup Costs: $0.

Total Annual Costs (operating/maintaining systems or purchasing services): $0.

Description: The National Longitudinal Survey of Youth 1979 represents the 20th wave of data collection. The information obtained in this survey will be used by the Department of Labor (DOL), other government agencies, academic researchers, the news media, and the general public to understand the employment experiences and life-cycle transitions of men and women born in the years 1957 to 1964 and living in the United States when the survey began in 1979. Among the objectives of the DOL are to promote the development of the U.S. labor force and the efficiency of the U.S. labor market.

Ira L. Mills,
DOL Clearance Officer.

[FR Doc. 01-25345 Filed 10-9-01; 8:45 am]

BILLING CODE 4510-24-M